DEPARTMENT OF ENERGY

Federal Energy Regulatory Commission

Combined Notice of Filings #1

Take notice that the Commission received the following electric corporate filings:

Docket Numbers: EC18-27-000.

Applicants: Allegheny Generating Company, Allegheny Energy Supply Company, LLC, Monongahela Power Company.

Description: Federal Power Act Section 203 Application, Requests for Shortened Comment Period, Confidential Treatment, and Limited Waiver of the Part 33 Filing Requirements of Allegheny Generating Company, et. al.

Filed Date: 12/1/17.

Accession Number: 20171201-5371.

Comments Due: 5 p.m. ET 12/22/17.

Take notice that the Commission received the following electric rate filings:

Docket Numbers: ER15-1841-002; ER15-2742-002; ER16-2643-002.

Applicants: Panda Stonewall LLC, Panda Patriot LLC, Panda Liberty LLC.

Description: Supplement to June 30, 2017 Updated Market Power Analysis for the Northeast Region of the Panda MBR Sellers.

Filed Date: 12/1/17.

Accession Number: 20171201-5332.

Comments Due: 5 p.m. ET 12/22/17.

Docket Numbers: ER16-2716-002.

Applicants: NextEra Energy Transmission MidAtlantic, LLC.

Description: Compliance filing: NextEra Energy Transmission MidAtlantic, LLC Compliance Filing to be effective 11/30/2016.

Filed Date: 12/4/17.

Accession Number: 20171204-5144.

Comments Due: 5 p.m. ET 12/26/17.

Docket Numbers: ER16-2717-002.

Applicants: NextEra Energy Transmission Midwest, LLC.

Description: Compliance filing: NextEra Energy Transmission Midwest, LLC Compliance Filing to be effective 11/30/2016.

Filed Date: 12/4/17.

Accession Number: 20171204-5142.

Comments Due: 5 p.m. ET 12/26/17.

Docket Numbers: ER16-2719-004.

Applicants: NextEra Energy Transmission New York, Inc.

Description: Compliance filing: NextEra Energy Transmission New York, Inc. Compliance Filing to be effective 11/30/2016.

Filed Date: 12/5/17.

Accession Number: 20171205-5098.

Comments Due: 5 p.m. ET 12/26/17.

Docket Numbers: ER16-2720-002.

Applicants: NextEra Energy Transmission Southwest, LLC.

Description: Compliance filing: NextEra Energy Transmission Southwest, LLC Compliance Filing to be effective 11/30/2016.

Filed Date: 12/5/17.

Accession Number: 20171205-5000.

Comments Due: 5 p.m. ET 12/26/17.

Docket Numbers: ER17-889-001.

Applicants: Southwest Power Pool, Inc.

Description: Compliance filing: 2646R3 Kansas Municipal Energy Agency NITSA NOA to be effective 1/1/2017.

Filed Date: 12/5/17.

Accession Number: 20171205-5074.

Comments Due: 5 p.m. ET 12/26/17.

Docket Numbers: ER17-2558-000.

Applicants: NTE Ohio, LLC.

Description: Supplemental Amendment to September 28, 2017 NTE Ohio, LLC tariff filing.

Filed Date: 12/1/17.

Accession Number: 20171201-5328.

Comments Due: 5 p.m. ET 12/22/17.

Docket Numbers: ER18-382-000.

Applicants: Pacific Gas and Electric Company.

Description: Tariff Cancellation: Termination of Alamo 1 & 2, Little Bear 3 & 4, Fountain Wind E&P Agreements to be effective 11/7/2017.

Filed Date: 12/4/17.

Accession Number: 20171204-5100.

Comments Due: 5 p.m. ET 12/26/17.

Docket Numbers: ER18-383-000.

Applicants: PJM Interconnection, L.L.C.

Description: § 205(d) Rate Filing: Amendment to ISA SA No. 3670; Queue Position Y2-077 to be effective 11/1/2013.

Filed Date: 12/4/17.

Accession Number: 20171204-5101.

Comments Due: 5 p.m. ET 12/26/17.

Docket Numbers: ER18-384-000.

Applicants: PJM Interconnection, L.L.C.

Description: § 205(d) Rate Filing: Queue Position #AC2-145, Original Service Agreement No. 4842 to be effective 11/4/2017.

Filed Date: 12/4/17.

Accession Number: 20171204-5106.

Comments Due: 5 p.m. ET 12/26/17.

Docket Numbers: ER18-385-000.

Applicants: Southwest Power Pool, Inc.

Description: § 205(d) Rate Filing: 3316R1 Carthage Water and Electric Plant NITSA and NOA to be effective 11/1/2017.

Filed Date: 12/4/17.

Accession Number: 20171204-5112.

Comments Due: 5 p.m. ET 12/26/17.

Docket Numbers: ER18-386-000.

Applicants: Dynegy Conesville, LLC.

Description: Tariff Cancellation: Notice of Termination for Rate Schedule No. 1 to be effective 12/31/9998.

Filed Date: 12/4/17.

Accession Number: 20171204-5126.

Comments Due: 5 p.m. ET 12/26/17.

Docket Numbers: ER18-387-000.

Applicants: ISO New England Inc., Emera Maine.

Description: § 205(d) Rate Filing: Original Service Agreement under Schedule 21-EM of the ISO-NE Tariff to be effective 1/1/2016.

Filed Date: 12/5/17.

Accession Number: 20171205-5060.

Comments Due: 5 p.m. ET 12/26/17.

Docket Numbers: ER18-388-000.

Applicants: New England Power Company.

Description: § 205(d) Rate Filing: Schedule 20A Service Agreement with H.Q. Energy Services to be effective 1/1/2018.

Filed Date: 12/5/17.

Accession Number: 20171205-5062.

Comments Due: 5 p.m. ET 12/26/17.

Docket Numbers: ER18-389-000.

Applicants: PJM Interconnection, L.L.C.

Description: Tariff Cancellation: Notice of Cancellation of Original Service Agreement No. 4584 to be effective 12/22/2017.

Filed Date: 12/5/17.

Accession Number: 20171205-5076.

Comments Due: 5 p.m. ET 12/26/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 5, 2017.
Nathaniel J. Davis, Sr.,
Deputy Secretary.

[FR Doc. 2017-26650 Filed 12-8-17; 8:45 am]

BILLING CODE 6717-01-P